DEPARTMENT OF THE INTERIOR

Bureau of Land Management

[WY-957-1420-BJ-P]

Filing of Plats of Survey; Wyoming

AGENCY: Bureau of Land Management, Interior.

ACTION: Notice.

The plat representing the dependent resurvey of a portion of the west boundary and the subdivisional lines, and the subdivision of section 7, T. 44 N., R. 62 W., Sixth Principal Meridian, Wyoming, Group No. 662, was accepted May 31, 2002.

The plat representing the dependent resurvey of a portion of the subdivisional lines, and the subdivision of section 12, T. 44 N., R. 63 W., Sixth Principal Meridian, Wyoming, Group No. 662, was accepted May 31, 2002.

The plat representing the dependent resurvey of the west boundary, a portion of the north boundary, and the subdivisional lines, T. 54 N., R. 74 W., Sixth Principal Meridian, Wyoming, Group No. 675, was accepted May 31, 2002.

The plat representing the informative traverse of the western right of way of Burlington Northern Railroad, with the division of certain subdivisions into lots to accommodate a proposed land exchange in sections 22 and 27, T. 42 N., R. 71 W., Sixth Principal Meridian, Wyoming, Group No. 695, was accepted May 31, 2002.

The plat representing the dependent resurvey of a portion of the west boundary and a portion of the subdivisional lines, and the subdivision of sections 18 and 20, T. 17 N., R. 77 W., Sixth Principal Meridian, Wyoming, Group No. 689, was accepted May 31, 2002.

The plat representing the dependent resurvey of a portion of the subdivisional lines, and the subdivision of section 24, T. 17 N., R. 78 W., Sixth Principal Meridian, Wyoming, Group No. 689, was accepted May 31, 2002.

The plat representing the dependent resurvey of a portion of the subdivisional lines, and the subdivision of section 14, T. 28 N., R. 97 W., Sixth Principal Meridian, Wyoming, Group No. 697, was accepted May 31, 2002.

The plat representing the dependent resurvey of the north boundary and the subdivisional lines, T. 54 N., R. 75 W., Sixth Principal Meridian, Wyoming, Group No. 679, was accepted May 31, 2002.

The plat representing the dependent resurvey of a portion of Tract 45, a portion of the subdivisional lines, and the subdivision of sections 11 and 14, T. 50 N., R. 90 W., Sixth Principal Meridian, Wyoming, Group No. 698, was accepted May 31, 2002.

FOR FURTHER INFORMATION CONTACT: John P. Lee, (307) 775-6216, Bureau of Land Management, 5353 Yellowstone Road, Cheyenne, Wyoming 82009.

Dated: May 31, 2002.
John P. Lee,
Chief Cadastral Surveyor for Wyoming.

[FR Doc. 02-16008 Filed 6-24-02; 8:45 am]

BILLING CODE 4310-22-P